FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—03/06/2006
20060678 | The Weinstein Company Holdings LLC | Genius Products, Inc | Genius Products, Inc.
TRANSACTIONS GRANTED EARLY TERMINATION—03/07/2006
20060655 | J.R. Hyde, III | GTx, Inc | GTx, Inc.
20060684 | Merck & Co., Inc | Neuromed Technologies, Inc | Neuromed Technologies, Inc.
20060711 | Marubeni Corporation | Pioneer Natural Resources Company | Pioneer Natural Resources USA, Inc.
TRANSACTIONS GRANTED EARLY TERMINATION—03/08/2006
20060656 | JANA Offshore Partners, Ltd | The Houston Exploration Company | The Houston Exploration Company.
20060700 | Business Objects S.A | Firstlogic, Inc | Firstlogic, Inc.
TRANSACTIONS GRANTED EARLY TERMINATION—03/08/2006
20060677 | Tandberg Television ASA | SkyStream Networks Inc | SkyStream Networks Inc.
TRANSACTIONS GRANTED EARLY TERMINATION—03/13/2006
20060667 | Whitney V, L.P | Thomas Fahey | Universal Holdings, Inc.
20060671 | Commerzbank Aktiengesellschaft | Eurohypo Aktiengesellschaft | Eurohypo Aktiengesellschaft.
20060714 | Cemex, S.A. de C.V | General Electric Company | Full Service Leasing Corp.
|  |  | General Electric Capital Corporation.
|  |  | SGE (New York) Associates II.
20060720 | Terumo Corporation | MicroVention, Inc | MicroVention, Inc.
20060722 | ALLTEL Corporation | Southern Illinois Cellular Corp | Southern Illinois Cellular Corp.
20060723 | TriGenesys, Inc | Human Genome Sciences, Inc. | Human Genome Sciences, Inc.
20060726 | Borland Software Corporation | Segue Software, Inc | Segue Software, Inc.
20060735 | David D. Smith | Kenneth A. Hall | Center Ford, Inc.
|  |  | Hall Auto World, Inc.
|  |  | Jefferson Imports, Inc.
|  |  | KAH Imports, Inc.
|  |  | Peninsula Imports, Inc.
|  |  | State Line Imports, Inc.
|  |  | Tidewater Imports, Inc.
20060742 | Carlyle Partners IV, L.P | John Maneely Company | John Maneely Company.
20060746 | ArcLight Energy Partners Fund II, L.P | ArcLight Energy Partners Fund II, L.P | Magnum Coal Company.
20060749 | Hub International Limited | The Royal Bank of Scotland Group plc | Brewer & Lord LLC.
|  |  | Citizens Clair Insurance Agency, LLC.
|  |  | The Feitelberg Company LLC.
TRANSACTIONS GRANTED EARLY TERMINATION—03/14/2006
20060666 | Angiotech Pharmaceuticals, Inc | RounTable Healthcare Partners, L.P | American Medical Instruments Holdings, Inc.
20060682 | Cal Dive International, Inc | Remington Oil and Gas Corporation | Remington Oil and Gas Corporation.
20060727 | Great River Energy | United Power Association | United Power Association.
20060732 | Black Box Corporation | Tom T. Gores | NextiraOne California, L.P.
|  |  | NextiraOne Federal, LLC.
|  |  | NextiraOne, LLC.
|  |  | NextiraOne New York, LLC.
20060733 | PNM Resources, Inc | Sempra Energy | Twin Oaks Power III, LP.
|  |  | Twin Oaks Power, LP
20060743 | CDX Acquisition Company LLC | Monty H. Rial Revocable Trust | CDX Holdings, LLC.
TRANSACTIONS GRANTED EARLY TERMINATION—03/15/2006
20060736 | CK Life Sciences Int'l., (Holdings) Inc | Vitaquest International Holdings LLC | Vitaquest International Holdings LLC.
20060750 | AEA Investors Small Business Fund LP | William E. O'Connor | P.P.C. Industries.
TRANSACTIONS GRANTED EARLY TERMINATION—03/16/2006
20060707 | Moog Inc | M. Michael Parsee and Afsaneh Astani | Curlin Healthcare Products, Inc.
|  |  | Curlin Medical, LLC.
|  |  | Curlin Technology, LLC.
TRANSACTIONS GRANTED EARLY TERMINATION—03/17/2006
20060710 | Lucent Technologies Inc | Riverstone Networks, Inc | Riverstone Networks, Inc.
20060715 | Arysta LifeScience Corporation | BASF AG | Micro Flo Company LLC.
20060738 | FMR Corp | Wolohan Lumber Co | Wolohan Lumber Co.
20060744 | TreeHouse Foods, Inc | Del Monte Corporation | Del Monte Corporation.
20060752 | General Electric Company | The Goldman Sachs Group, Inc | East Cost Power LLC.
20060756 | Lubar Equity Fund, LLC | David G. Nelson | Rockland Industrial Products, LLC.
20060761 | Green Equity Investors IV, L.P | The Sports Authority, Inc | The Sports Authority, Inc.
20060763 | TA IX L.P | William D. Oates | Global 360, Inc.
20060764 | Kikkoman Corporation | Country Life, LLC | Country Life, LLC.
TRANSACTIONS GRANTED EARLY TERMINATION—03/20/2006
20060675 | LGB ENV LLC | Duratek, Inc | Duratek, Inc.
TRANSACTIONS GRANTED EARLY TERMINATION—03/21/2006
20060610 | Onex Partners LP | BAE Systems PLC | BAE Systems (Operations) Limited.
20060689 | Edward G. Burr | Waste Management, Inc | USA Waste of California, Inc.
|  |  | Waste Management of California, Inc.
|  |  | Western Waste Industries.
20060729 | General Electric Company | John Gerngross and Susan Gerngross | Condor Engineering.
20060730 | FANUC LTD | John Gerngross and Susan Gerngross | Condor Engineering.
20060741 | Ball Corporation | Alcan Inc | Alcan Inc.
20060773 | KIPB Group Holdings, LLC | Packaging Dynamics Corporation | Packaging Dynamics Corporation.
20060779 | Compass Group PLC | Levy Restaurant Limited Partnership | Levy Restaurant Limited Partnership.
TRANSACTIONS GRANTED EARLY TERMINATION—03/22/2006
20060716 | Telelogic AB | I-Logic Inc | I-Logic Inc.
20060786 | Advantage Sales and Marketing Holdings, LLC | Allied Capital Corporation | Advantage Sales & Marketing Inc.
20060800 | Fujitsu Limited | Rapidigm, Inc | Rapidigm, Inc.
TRANSACTIONS GRANTED EARLY TERMINATION—03/23/2006
20060681 | Viisage Technology, Inc | Identix Incorporated | Identix Incorporated.
20060696 | Cadence Pharmaceuticals, Inc | Bristol-Myers Squibb Company | Bristol-Myers Squibb Company.
20060737 | Mohawk Industries, Inc | Propex Fabrics Holdings, Inc | Propex Fabrics Holdings Inc.
20060782 | Humana, Inc | CHA Service Company | CHA HMC, Inc.
TRANSACTIONS GRANTED EARLY TERMINATION—03/24/2006
20060691 | Constellation Energy Group, Inc | FPL Group, Inc | FPL Group, Inc.
20060757 | InterMedia Partners VII, L.P | Thomas Nelson, Inc | Thomas Nelson, Inc.
20060772 | ARAMARK Corporation | SeamlessWeb Professional Solutions, Inc | SeamlessWeb Professional Solutions, Inc.
20060795 | American Capital Strategies, Ltd | Trey D. Cook | Innova Holdings, Inc.
20060796 | Merrill Lynch & Co., Inc | The PNC Financial Services Group, Inc | BlackRock, Inc.
20060797 | The PNC Financial Services Group, Inc | Merrill Lynch & Co., Inc | MLIM.
20060805 | Retirement Residences REIT | Brandywine Senior Care, Inc | Bey Lea Nursing Home, Inc.
|  |  | Laurelton Nursing Home, Inc.
|  |  | Linwood Nursing Home LLC.
|  |  | MeadowView East Geriatric.
|  |  | Meadowview Geriatrics, Inc.
|  |  | Neptune Nursing Home L.L.C.
|  |  | Premier Therapy Services L.L.C.
|  |  | Somerset Nursing Home L.L.C.
20060806 | Gryphon Partners II, L.P | The Huron Fund LP | Delta Educational Systems, Inc.
20060809 | The Home Depot, Inc | W. Grant Williams, III | Home Decorators Collection, Inc.

FOR FURTHER INFORMATION CONTACT: Sandra M. Peay, Contact Representative or Renee Hallman, Contact Representative. Federal Trade Commission, Premerger Notification Office, Bureau of Competition, Room H-303, Washington, DC 20580. (202) 326-3100.

By Direction of the Commission.
Donald S. Clark,
Secretary.

[FR Doc. 06-3213 Filed 4-3-06; 8:45 am]

BILLING CODE 6750-01-M